DEPARTMENT OF HEALTH AND HUMAN SERVICES

National Institutes of Health

National Advisory Council on Minority Health and Health Disparities; Amended Notice of Meeting

Notice is hereby given of a change in the meeting of the National Advisory Council on Minority Health and Health Disparities, June 9, 2015, 8:30 a.m. to June 9, 2015, 3:00 p.m., National Institutes of Health, 31 Center Drive, Building 31, Conference Room 6, Bethesda, MD 20892 which was published in the Federal Register on May 8, 2015, 80 FR 89, page 26574.

The meeting notice is amended to change the adjournment time of the open session from 3:00 p.m. to 2:00 p.m. The start time of the closed session will be 2:00 p.m.

Dated: May 26, 2015.
David Clary,
Program Analyst, Office of Federal Advisory Committee Policy.

[FR Doc. 2015-13151 Filed 6-1-15; 8:45 am]

BILLING CODE 4140-01-P